DEPARTMENT OF EDUCATION

Notice of Proposed Information Collection Requests; Comment Request

AGENCY: Department of Education.

ACTION: Correction Notice.

SUMMARY: On April 10, 2008, the Department of Education published a comment period notice in the Federal Register (Page 19492, Column 1) for the information collection, “Generic Application Package for Discretionary Grant Programs.” The Type of Review is hereby corrected to Extension.

The IC Clearance Official, Regulatory Information Management Services, Office of Management, hereby issues a correction notice as required by the Paperwork Reduction Act of 1995.

Dated: April 10, 2008.
Angela C. Arrington,
IC Clearance Official, Regulatory Information Management Services, Office of Management.

[FR Doc. E8-8117 Filed 4-15-08; 8:45 am]

BILLING CODE 4000-01-P